FEDERAL RESERVE SYSTEM

Formations of, Acquisitions by, and Mergers of Bank Holding Companies; Correction

This notice corrects a notice (FR Doc. E6-5847) published on pages 20106-20107 of the issue for Wednesday, April 19, 2006.

Under the Federal Reserve Bank of Kansas City heading, the entry for First Pryor Bancorp, Inc., Pryor, Oklahoma, is revised to read as follows:

A. Federal Reserve Bank of Kansas City (Donna J. Ward, Assistant Vice President) 925 Grand Avenue, Kansas City, Missouri 64198-0001:

1. First Pryor Bancorp, Inc., Pryor, Oklahoma; to acquire 14.29 percent of the voting shares of Carson River Community Bank, Minden, Nevada (in organization).

Comments on this application must be received by May 15, 2006.

Board of Governors of the Federal Reserve System, April 20, 2006.
Jennifer J. Johnson,
Secretary of the Board.

[FR Doc. E6-6154 Filed 4-24-06; 8:45 am]

BILLING CODE 6210-01-S